DEPARTMENT OF COMMERCE

National Oceanic and Atmospheric Administration

RIN 0648-XG494

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Coonamessett Farm Foundation contains all of the required information and warrants further consideration. This Exempted Fishing Permit would allow participating commercial fishing vessels to temporarily possess undersized monkfish for biological sampling during normal fishing operations in the Southern Fishery Management Area. Regulations under the Magnuson-Stevens Fishery Conservation and Management Act require publication of this notification to provide interested parties the opportunity to comment on applications for proposed Exempted Fishing Permits.

DATES: Comments must be received on or before October 15, 2018.

ADDRESSES: You may submit written comments by any of the following methods:

• Email: NMFS.GAR.EFP@noaa.gov. Include in the subject line “Comments on CFF 2018 Monkfish RSA EFP.”

• Mail: Michael Pentony, Regional Administrator, NMFS, Greater Atlantic Regional Office, 55 Great Republic Drive, Gloucester, MA 01930. Mark the outside of the envelope “Comments on CFF 2018 Monkfish RSA EFP.”

FOR FURTHER INFORMATION CONTACT: Cynthia Ferrio, Fishery Management Specialist, 978-281-9180, Cynthia.Ferrio@noaa.gov.

SUPPLEMENTARY INFORMATION: The Coonamessett Farm Foundation (CFF) submitted a complete application for an Exempted Fishing Permit (EFP) on September 12, 2018, to conduct fishing activities that the regulations would otherwise restrict. The EFP would authorize 12 participating vessels to temporarily possess undersize monkfish while biologically sampling all monkfish caught during normal fishing operations in the Southern Fishery Management Area. This research is designed to create a reproductive profile for monkfish in the region. Sampling would consist of recording the length, total weight, gonad weight, liver weight, and spleen color of each individual sampled fish. Collection of gonad and blood samples will also occur. Retention and sale of legal catch would be allowed on these trips, but all undersized fish and otherwise prohibited catch will be returned to the sea as quickly as possible.

If approved, this research would be conducted opportunistically over the course of 16 single-day commercial trips within the Southern Fishery Management Area for monkfish. All of these 16 trips are expected to take place in 2019 between January and June. All gear and effort specifications (i.e., haul duration, number of nets, etc.) would be dependent upon the discretion of the vessel captains' typical fishing practices, but would remain within commercial regulations.

CFF is requesting an exemption from the minimum size possession restriction in the Monkfish Fishery Management Plan (FMP) found at 50 CFR 648.93(a) to accurately sample all monkfish during these selected fishing trips. Funding for this research has been awarded under the Monkfish Research Set-Aside Program.

If approved, CFF may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: September 25, 2018.
Alan D. Risenhoover,
Director, Office of Sustainable Fisheries, National Marine Fisheries Service.

[FR Doc. 2018-21164 Filed 9-27-18; 8:45 am]

BILLING CODE 3510-22-P